DEPARTMENT OF JUSTICE

Notice of Lodging of Proposed Consent Decree Under the Oil Pollution Act

On August 6, 2019, the Department of Justice lodged a proposed Consent Decree with the United States District Court for the District of Oregon in the lawsuit entitled United States v. Cannery Pier Hotel, LLC, and Terry Rosenau solely in his capacity as Personal Representative for the Estate of Robert H. Jacob, Civil Action No. 19-cv-01217.

The United States brought this action under the Oil Pollution Act of 1990 (“OPA”), 33 U.S.C. 2701, et seq., to recover from defendants Cannery Pier Hotel, LLC, and Terry Rosenau solely in his capacity as Personal Representative for the Estate of Robert H. Jacob, $994,146.43 in costs and damages incurred by the National Pollution Funds Center of the United States Coast Guard (“the NPFC”) for actions undertaken and damages paid by the Coast Guard in response to discharges of oil from a fuel storage tank located under a partially-collapsed pier on the Columbia River in Astoria, Oregon. The Consent Decree resolves the United States' claims against the defendants. Under the Consent Decree, the defendants will pay the NPFC $994,146.43, which is the full amount of its claim. The United States will, in return, grant the defendants a covenant not to sue under OPA, subject to standard re-openers and reservations of rights.

The publication of this notice opens a period for public comment on the Consent Decree. Comments should be addressed to the Assistant Attorney General, Environment and Natural Resources Division, and should refer to United States v. Cannery Pier Hotel, LLC, and Terry Rosenau solely in his capacity as Personal Representative for the Estate of Robert H. Jacob, D.J. Ref. No. 90-5-1-1-12151. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.50 (25 cents per page reproduction cost) payable to the United States Treasury.

Susan M. Akers,
Assistant Section Chief, Environmental Enforcement Section, Environment and Natural Resources Division.

[FR Doc. 2019-17163 Filed 8-9-19; 8:45 am]

BILLING CODE 4410-15-P